DEPARTMENT OF LABOR

Employment and Training Administration

[TA-W-64,287]

Logistics Services, Inc., Fenton, MO; Notice of Termination of Investigation

Pursuant to Section 221 of the Trade Act of 1974, as amended, an investigation was initiated on October 27, 2008 in response to a petition filed by an International Union, United Automobile, Aerospace and Agricultural Implement Workers of America (UAW), Region 5 official on behalf of workers of Logistics Services, Inc., Fenton, Missouri.

The petitioning group of workers is covered by an active certification (TA-W-63,052 as amended) which expires on April 14, 2010. Consequently, further investigation in this case would serve no purpose, and the investigation has been terminated.

Signed at Washington, DC this 9th day of December 2008.
Elliott S. Kushner,
Certifying Officer, Division of Trade Adjustment Assistance.

[FR Doc. E8-29939 Filed 12-17-08; 8:45 am]

BILLING CODE 4510-FN-P